DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 29, 2003.

Interested persons are invited to submit written comments regarding the subject matter of the investigations to the Director, Division of Trade Adjustment Assistance, at the address shown below, not later than September 29, 2003.

The petitions filed in this case are available for inspection at the Office of the Director, Division of Trade Adjustment Assistance, Employment and Training Administration, U.S. Department of Labor, Room C-5311, 200 Constitution Avenue, NW., Washington, DC 20210.

Signed at Washington, DC, this 2nd day of September 2003.
Terrence Clark,
Acting Director, Division of Trade Adjustment Assistance.

Appendix
[Petitions instituted between 08/18/2003 and 08/22/2003]
TA-W | Subject firm (Petitioners) | Location | Date of institution | Date of petition
52,574 | Waggoner/Parker Fisheries (Wkrs) | Kenai, AK | 08/18/2003 | 08/12/2003
52,575 | Volex, Inc. (Wkrs) | Conover, NC | 08/18/2003 | 08/13/2003
52,576 | FMC Measurement Solutions (UAW) | Erie, PA | 08/18/2003 | 08/01/2003
52,577 | Allen Edmonds (Wkrs) | Milwaukee, WI | 08/18/2003 | 08/14/2003
52,578 | Goodyear Tire and Rubber Company (Wkrs) | Cartersville, GA | 08/18/2003 | 08/01/2003
52,579 | Wellington Synthetic Fibers (Comp) | Leesville, SC | 08/18/2003 | 08/12/2003
52,580 | Irwin-Hodson Metal Manufacturing, LLC (Comp) | Portland, OR | 08/18/2003 | 08/13/2003
52,581 | Vaughan Furniture Company (Comp) | Johnson City, TN | 08/18/2003 | 08/06/2003
52,582 | AT and T Wireless Services, Inc. (CA) | Livermore, CA | 08/18/2003 | 08/05/2003
52,583 | VF Jeanswear Limited Partnership (Comp) | Ada, OK | 08/18/2003 | 08/04/2003
52,584 | Siebel Systems (CA) | Emeryville, CA | 08/18/2003 | 08/06/2003
52,585 | Oregon Woodworking Co. (OR) | Bend, OR | 08/18/2003 | 08/14/2003
52,586 | Thantex Specialities (Comp) | Abbeville, SC | 08/18/2003 | 07/23/2003
52,587 | Ramtex, Inc. (Comp) | Ramseur, NC | 08/18/2003 | 08/06/2003
52,588 | Paxar Corporation (Comp) | Lenoir, NC | 08/18/2003 | 08/05/2003
52,589 | Hunter Corporation (Comp) | Portage, IN | 08/18/2003 | 08/11/2003
52,590 | Delta International Machinery (Comp) | Tupelo, MS | 08/18/2003 | 08/01/2003
52,591 | Kentucky Derby Hosiery (Wkrs) | Mount Airy, NC | 08/18/2003 | 08/08/2003
52,592 | Cincinnati Advertising, LLC (OH) | Springdale, OH | 08/18/2003 | 08/05/2003
52,593 | Implementation Strategies, Inc. (Comp) | New York, NY | 08/18/2003 | 08/05/2003
52,594 | Squires Hardwoods, Inc. (Comp) | Shannon, NC | 08/18/2003 | 07/30/2003
52,595 | Squires Hardwoods, Inc. (Comp) | Woonsocket, RI | 08/18/2003 | 08/14/2003
52,596 | Photronics, Inc. (Comp) | Milpitas, CA | 08/18/2003 | 08/04/2003
52,597 | Sure-Fit, Inc. (Wkrs) | Allentown, PA | 8/18/2003 | 8/13/2003
52,598A | Minacs (Comp) | Swartz Creek, MI | 8/18/2003 | 7/18/2003
52,598 | Minacs (Comp) | Flint, MI | 8/18/2003 | 7/18/2003
52,599 | Ruppe Hosiery Inc. (Comp) | Kings Mountain, NC | 8/18/2003 | 8/07/2003
52,600 | Kelly Servicers (Wkrs) | Sherman, TX | 8/18/2003 | 8/13/2003
52,601 | Congress Industries (UNITE) | Hawthorne, NJ | 8/18/2003 | 7/30/2003
52,602 | Reed-Rico (MA) | Holden, MA | 8/18/2003 | 7/25/2003
52,603 | Medite Division of Sierra Pine (Wkrs) | Medford, OR | 8/19/2003 | 8/18/2003
52,604 | F/V Seven Sons (Comp) | Cordova, AK | 8/19/2003 | 8/14/2003
52,605 | F/V Valli (Comp) | Naknek, AK | 8/19/2003 | 7/29/2003
52,606 | Fishing Vessel (F/V) Emerald Sea (Comp) | Kodiak, AK | 8/19/2003 | 8/14/2003
52,607 | NIBCO, Inc. (USWA) | Elkhart, IN | 8/19/2003 | 8/18/2003
52,608 | Fruit of the Loom (Comp) | Harlingen, TX | 8/19/2003 | 8/11/2003
52,609 | Coastal Lumber Company (Wkrs) | Hazelton, WV | 8/19/2003 | 8/13/2003
52,610 | TRW Automotive (MN) | Winona, MN | 8/19/2003 | 8/15/2003
52,611 | Guardian Industries Corp (Comp) | Lewistown, PA | 8/19/2003 | 8/18/2003
52,612 | Solectron (Comp) | Creedmoor, NC | 08/19/2003 | 08/15/2003
52,613 | ITT Industries (Comp) | Loveland, CO | 8/19/2003 | 8/14/2003
52,614 | Watlow Controls (MN) | Winona, MN | 8/19/2003 | 8/15/2003
52,615 | Underwriters Laboratories (Wkrs) | Camas, WA | 8/19/2003 | 8/13/2003
52,616 | McKeehan Hosiery Mill, Inc. (Comp) | Fort Payne, AL | 8/19/2003 | 8/11/2003
52,617 | Wee Socks (Comp) | Fort Payne, AL | 8/19/2003 | 8/11/2003
52,618 | Johnson Hosiery Mills, Inc. (Comp) | Fort Payne, AL | 8/19/2003 | 8/13/2003
52,619 | Miller Casket Company (Wkrs) | Jermyn, PA | 8/19/2003 | 8/15/0200
52,620 | Corbin Russwin, Inc. (Comp) | Clarksdale, MS | 08/19/2003 | 08/13/2003
52,621 | Lala Ellen Knitting (Comp) | Fort Payne, AL | 08/19/2003 | 08/11/2003
52,622 | Descartes Systems Group (GA) | Atlanta, GA | 08/19/2003 | 08/14/2003
52,623 | Five Rivers Electronic Inovations, LLC (IU) | Greeneville, TN | 08/19/2003 | 08/15/2003
52,624 | Shell E and P Company (Comp) | Houston, TX | 08/20/2003 | 08/11/2003
52,625 | TRW Automotive (MN) | Rushford, MN | 08/20/2003 | 08/15/2003
52,626 | Paper Converting Machine Company (Comp) | Green Bay, WI | 08/20/2003 | 08/14/2003
52,627 | Flextronics Logistics (Comp) | Mt. Juliet, TN | 08/20/2003 | 08/14/2003
52,628 | V.I. Prewett and Son, Inc. (Comp) | Fort Payne, AL | 08/20/2003 | 08/12/2003
52,629 | General Binding Corporation (Comp) | Booneville, MS | 08/20/2003 | 08/12/2003
52,630 | Ramatech, LLC (Wkrs) | Belleville, MI | 08/20/2003 | 08/06/2003
52,631 | Northland A. Scott Fetzer Company (IBEW) | Waterdown, NY | 08/20/2003 | 08/12/2003
52,632 | Daimler Chrysler Child Dev. Center (UAW) | Huntsville, AL | 08/20/2003 | 08/18/2003
52,633 | Highland Supply Company (Wkrs) | Highland, IL | 08/20/2003 | 08/18/2003
52,634 | Monona Wire Corp. (Comp) | Dekalb, IL | 08/21/2003 | 08/20/2003
52,635 | North American Battery Co. (Wkrs) | San Diego, CA | 08/21/2003 | 08/14/2003
52,636 | Hilti (Wkrs) | Tulsa, OK | 08/21/2003 | 08/20/2003
52,637 | MSX International (Comp) | Auburn Hills, MI | 08/21/2003 | 05/08/2003
52,638 | Vesuvius USA (Comp) | Champaign, IL | 08/21/2003 | 08/07/2003
52,639 | Textron Fastener (Wkrs) | Madison Heights, MI | 08/21/2003 | 08/07/2003
52,640 | Bend Tec, Inc. (MN) | Duluth, MN | 08/21/2003 | 08/20/2003
52,641 | Ault, Inc. (Comp) | Minneapolis, MN | 08/21/2003 | 08/07/2003
52,642 | Cyberware (Wkrs) | Monterey, CA | 08/21/2003 | 08/20/2003
52,643 | Matsushita Avionics Systems, Corp. (Wkrs) | Coppell, TX | 08/21/2003 | 07/26/2003
52,644 | Fisher Controls (Wkrs) | McKinney, TX | 08/21/2003 | 08/20/2003
52,645 | KBK Management Associates (Wkrs) | Youngstown, OH | 08/21/2003 | 08/18/2003
52,646 | Tetonics, Inc. (Comp) | Jackson, WY | 08/21/2003 | 08/14/2003
52,647 | PACCAR, Inc. (UAW) | Madison, TN | 08/21/2003 | 08/18/2003
52,648 | Wall Repair Systems, Inc. (Comp) | LaCenter, WA | 08/21/2003 | 08/18/2003
52,649 | Tellabs (Wkrs) | Bolingbrook, IL | 08/21/2003 | 08/19/2003
52,650 | PPG Industries (Comp) | Lexington, NC | 08/21/2003 | 08/21/2003
52,651 | RR Donnelley and Sons (Wkrs) | Lancaster, PA | 08/21/2003 | 08/06/2003
52,652 | Snap-on Tools (Wkrs) | Mt. Carmel, IL | 08/21/2003 | 08/15/2003
52,653 | Progressive Processing (USWA) | Elyria, OH | 08/21/2003 | 07/11/2003
52,654 | Current Industries (Comp) | Bellingham, WA | 08/21/2003 | 08/05/2003
52,655 | Takata Petri Inc. (Comp) | Port Huron, MI | 08/22/2003 | 08/22/2003
52,656 | Agere Systems (IBEW) | Allentown, PA | 08/22/2003 | 08/15/2003
52,657 | C and C Sportswear, Inc. (Comp) | Westmoreland, IN | 08/22/2003 | 08/21/2003
52,658 | Tally Printer Corp. (Comp) | Kent, WA | 08/22/2003 | 08/19/2003
52,659 | Connex Pipe Systems (Wkrs) | Troutville, WA | 08/22/2003 | 08/11/2003
52,660 | C.J. USA Transport (Wkrs) | Wayne, MI | 08/22/2003 | 08/08/2003
52,661 | Glove's Cut and Sew, Inc. (Comp) | Albemarle, NC | 08/22/2003 | 08/18/2003
52,662 | Vantico (MN) | Minneapolis, MN | 08/22/2003 | 08/14/2003
52,663 | Stanley Services (Wkrs) | Smithfield, NC | 08/22/2003 | 08/15/2003
52,664 | Slater Steel, Inc. (USWA) | Fort Wayne, IN | 08/22/2003 | 08/20/2003
52,656 | Textron (Wkrs) | Rockford, IL | 08/22/2003 | 08/19/2003
52,666 | Preceed America, Inc. (OR) | Hillsboro, OR | 08/22/2003 | 08/15/2003
52,667 | G.O. Carlson, Inc. (Comp) | Dowingtown, PA | 08/22/2003 | 08/21/2003
52,668 | Parker Hannifin Corp. (Comp) | Snowhill, NC | 08/22/2003 | 08/18/2003
52,669 | Carolina Shoe Co. (Wkrs) | Morganton, NC | 08/22/2003 | 08/15/2003

[FR Doc. 03-23696 Filed 9-16-03; 8:45 am]

BILLING CODE 4510-30-M